Title 3—

The President

Proclamation 10118 of November 10, 2020

Veterans Day, 2020

By the President of the United States of America

A Proclamation

America's veterans have fought to defend our country, its values, and its interests since the first days of our founding. They have defeated tyrants, eliminated terrorists, and secured freedom at home and abroad. Their courage and fortitude in the face of adversity serve as an example for all Americans. On Veterans Day, we pause to pay tribute to all who have proudly worn our Nation's uniform. These Soldiers, Sailors, Airmen, Marines, and Coast Guardsmen selflessly placed lives, well-being, and security of others before their own. We enjoy the privileges of peace, prosperity, and freedom because of our veterans, and we are forever indebted to them beyond measure.

For their love of country and dedication to duty, America's veterans have endured adversity, loneliness, fatigue, loss, and made other incredible sacrifices. Many sustained life-altering physical injuries and disabilities; others bear the burden of emotional scars for the remainder of their lives. Our Nation's veterans fully understand liberty's high and precious cost, for they have paid it every day since the formation of our Republic.

As Commander in Chief, I have relentlessly fought to support America's veterans. For far too long, our Government had not fully met its obligation to provide for “him who shall have borne the battle, and for his widow and his orphan.” I recognize that this country and its people are duty-bound to care for our exceptional veterans, their families, and their survivors. That is why, throughout my time in office, I have worked tirelessly to improve the health, welfare, and economic prosperity of these treasured people. In just a few short years, my Administration completely overhauled the Department of Veterans Affairs (VA), removing employees who were not giving our veterans the care and attention they deserve and making the agency more accountable to the heroes it serves. I also signed into law the VA MISSION Act, which gives eligible veterans the choice to receive timely care from providers in their own communities. In 2018, I also signed the largest funding bill in the history of the VA, and the VA has since benefited from record budgets every year. In addition, I signed a Presidential Memorandum to ensure that veterans who are totally and permanently disabled receive the Federal student loan forgiveness to which they are so justly entitled. We will continue to build on these efforts and work to create an economic environment that fosters growth and prosperity for veterans, ensuring all of our veterans have the opportunity to live productive civilian lives.

The mental health and welfare of our veterans is of critical importance, and addressing this issue has been a top priority. Tragically, an average of 20 veterans and service members die by suicide each day. We are striving with all our effort to end this alarming and unacceptable reality. Last year, I launched the largest whole-of-government program in history to end veteran suicide, the President's Roadmap to Empower Veterans and End a National Tragedy of Suicide (PREVENTS). I also recently signed the Commander John Scott Hannon Veteran Mental Health Care Improvement Act which is strengthening VA mental health, supporting suicide prevention efforts, and developing pilot programs dedicated to ending veteran suicide. I have also bolstered the Veterans Crisis Line, so that its around-the-clock operators can deliver the best possible intervention services to vulnerable veterans.

Our veterans represent the best of America, and they deserve the best America can provide them. To recognize and respect the contributions our service men and women have made in defense of America, and to advance the cause of peace, the Congress has provided, as outlined in 5 U.S.C. 6103(a), that November 11th of each year shall be set aside as a legal public holiday to recognize America's veterans. These heroes served faithfully, humbly, and valiantly in times of war and peace, and they carried these admirable traits into the civilian workforce when their military service was fulfilled. Our precious liberty has survived and thrived because of generations of brave Americans—from every background and walk of life—who have answered the call to support and defend the United States. The gravity of their contribution is immeasurable and so is our debt to every single one of our Nation's veterans.

NOW, THEREFORE, I, DONALD J. TRUMP, President of the United States of America, do hereby proclaim November 11, 2020, as Veterans Day. I encourage all Americans to recognize the fortitude and sacrifice of our veterans through public ceremonies and private thoughts and prayers. I call upon Federal, State, and local officials to display the flag of the United States and to participate in patriotic activities in their communities. I call on all Americans, including civic and fraternal organizations, places of worship, schools, and communities to support this day with commemorative expressions and programs.

IN WITNESS WHEREOF, I have hereunto set my hand this tenth day of November, in the year of our Lord two thousand twenty, and of the Independence of the United States of America the two hundred and forty-fifth.

[FR Doc. 2020-25395

Filed 11-13-20; 11:15 am]

Billing code 3295-F1-P